DEPARTMENT OF TRANSPORTATION

Federal Aviation Administration

14 CFR Part 39

[Docket No. FAA-2018-0726; Product Identifier 2017-SW-097-AD; Amendment 39-19638; AD 2019-09-04]

RIN 2120-AA64

Airworthiness Directives; Leonardo S.p.A. (Type Certificate Previously Held by Finmeccanica S.p.A., AgustaWestland S.p.A) Helicopters

AGENCY: Federal Aviation Administration (FAA), DOT.

ACTION: Final rule.

SUMMARY: We are adopting a new airworthiness directive (AD) for certain Leonardo S.p.A. (Type Certificate previously held by Finmeccanica S.p.A., AgustaWestland S.p.A.) Model AW109SP helicopters. This AD requires inspecting and altering the rescue hoist. This AD was prompted by a report of a damaged hoist cable that detached after load application. The actions of this AD are intended to address an unsafe condition on these products.

DATES: This AD is effective July 3, 2019.

The Director of the Federal Register approved the incorporation by reference of a certain document listed in this AD as of July 3, 2019.

ADDRESSES: For service information identified in this final rule, contact Leonardo S.p.A. Helicopters, Matteo Ragazzi, Head of Airworthiness, Viale G.Agusta 520, 21017 C.Costa di Samarate (Va) Italy; telephone +39-0331-711756; fax +39-0331-229046; or at https://www.leonardocompany.com/en/home. You may review the referenced service information at the FAA, Office of the Regional Counsel, Southwest Region, 10101 Hillwood Pkwy., Room 6N-321, Fort Worth, TX 76177. It is also available on the internet at http://www.regulations.gov by searching for and locating Docket No. FAA-2018-0726.

Examining the AD Docket

You may examine the AD docket on the internet at http://www.regulations.gov by searching for and locating Docket No. FAA-2018-0726; or in person at Docket Operations between 9 a.m. and 5 p.m., Monday through Friday, except Federal holidays. The AD docket contains this final rule, the European Aviation Safety Agency (EASA) AD, any incorporated-by-reference service information, the regulatory evaluation, any comments received, and other information. The street address for Docket Operations (phone: 800-647-5527) is U.S. Department of Transportation, Docket Operations, M-30, West Building Ground Floor, Room W12-140, 1200 New Jersey Avenue SE, Washington, DC 20590.

FOR FURTHER INFORMATION CONTACT: David Hatfield, Aviation Safety Engineer, Safety Management Section, Rotorcraft Standards Branch, FAA, 10101 Hillwood Pkwy., Fort Worth, TX 76177; telephone (817) 222-5110; email david.hatfield@faa.gov.

SUPPLEMENTARY INFORMATION:

Discussion

We issued a notice of proposed rulemaking (NPRM) to amend 14 CFR part 39 by adding an AD that would apply to certain Leonardo S.p.A. (formerly Finmeccanica S.p.A, AgustaWestland S.p.A.) Model AW109SP helicopters. The NPRM published in the Federal Register on August 21, 2018 (83 FR 42230). The NPRM was prompted by a report of a damaged hoist cable that detached after load application. The NPRM proposed to require inspecting and altering the rescue hoist.

We are issuing this AD to address chafing of a rescue hoist cable. This condition could result in detachment of an external load and subsequent injury to persons being lifted.

EASA, which is the Technical Agent for the Member States of the European Union, has issued AD No. 2017-0025, dated February 14, 2017, to correct an unsafe condition for certain Leonardo S.p.A. (formerly Finmeccanica S.p.A. and AgustaWestland S.p.A.) Model AW109SP helicopters. EASA advises that a hoist cable became snagged behind a hoist handle assembly nut and broke during a dummy load application. EASA further advises that this condition could result in detachment of an external load, and subsequent personal injury or injury to persons on the ground. To address this unsafe condition, the EASA AD requires inspecting the hoist cable, modifying the rescue hoist handle, and amending the rescue hoist pre-flight inspection described in the rotorcraft flight manual.

Comments

We gave the public the opportunity to participate in developing this final rule. We have considered the comment received. One commenter commented in support of the NPRM.

FAA's Determination

These helicopters have been approved by EASA and are approved for operation in the United States. Pursuant to our bilateral agreement with the European Union, EASA has notified us of the unsafe condition described in the EASA AD. We are issuing this AD because we evaluated all information provided by EASA and determined the unsafe condition exists and is likely to exist or develop on other helicopters of these same type designs and that air safety and the public interest require adopting the AD requirements as proposed.

Related Service Information Under 1 CFR Part 51

Leonardo S.p.A. issued Leonardo Helicopters Bollettino Tecnico No. 109SP-110, dated February 13, 2017, which contains procedures for inspecting the hoist handle, the passenger-side cabin doorframe, and the hoist cable. This service information also specifies replacing the attaching hardware on the rescue hoist handle and adding a temporary pre-flight check of the hoist cable to the rotorcraft flight manual.

This service information is reasonably available because the interested parties have access to it through their normal course of business or by the means identified in the ADDRESSES section.

Differences Between This AD and the EASA AD

The EASA AD requires amending the rotorcraft flight manual by adding a daily rescue hoist cable preflight inspection, this AD does not since the actions in this AD correct the unsafe condition.

Costs of Compliance

We estimate that this AD affects 30 helicopters of U.S. Registry. We estimate that operators may incur the following costs in order to comply with this AD, based on an average labor rate of $85 per hour.

Inspecting the hoist handle assembly, cabin doorframe, and hoist cable requires about 2 hours, for a cost of $170 per helicopter and $5,100 for the U.S. fleet. Replacing the hardware on the hoist handle assembly requires about 1 hour and required parts costs are minimal, for a cost of $85 per helicopter and $2,550 for the U.S. fleet.

If required, replacing a hoist cable requires about 3 hours and required parts cost $3,150, for a cost per helicopter of $3,405.

According to Leonardo Helicopters' service information, some of the costs of this AD may be covered under warranty, thereby reducing the cost impact on affected individuals. We do not control warranty coverage by Leonardo Helicopters. Accordingly, we have included all costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979);

(3) Will not affect intrastate aviation in Alaska to the extent that it justifies making a regulatory distinction; and

(4) Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2019-09-04 Leonardo S.p.A. (Type Certificate Previously Held by Finmeccanica S.p.A., AgustaWestland S.p.A.): Amendment 39-19638; Docket No. FAA-2018-0726; Product Identifier 2017-SW-097-AD.

(a) Applicability

This AD applies to Leonardo S.p.A. (Type Certificate previously held by Finmeccanica S.p.A., AgustaWestland S.p.A.) Model AW109SP helicopters, certificated in any category, with a rescue hoist part number 109-B810-16-101 or 109-B810-16-201 installed.

(b) Unsafe Condition

This AD defines the unsafe condition as chafing of a rescue hoist cable. This condition could result in detachment of an external load and subsequent injury to persons being lifted.

(c) Effective Date

This AD is effective July 3, 2019.

(d) Compliance

You are responsible for performing each action required by this AD within the specified compliance time unless it has already been accomplished prior to that time.

(e) Required Actions

(1) Within 10 hours time-in-service (TIS) or before the next hoist operation, whichever occurs first, inspect the rescue hoist handle assembly and the upper part of the cabin doorframe for chafing. The inspection area of the cabin doorframe is depicted in Figure 3 of Leonardo Helicopters Bollettino Tecnico No. 109SP-110, dated February 13, 2017 (BT 109SP-110). Examples of chafing are shown in Figures 10 and 11 of BT 109SP-110. If there is any chafing, before further flight, repair the chafed areas and inspect the first 6 meters (20 feet) of the hoist cable as follows:

(i) Measure the diameter of the hoist cable as described in the Compliance Instructions, Part I, paragraphs 3.4.1 through 3.4.2 of BT 109SP-110.

(ii) Average the two measurements at each location. If at any location the diameter of the hoist cable is less than 4.7 mm (0.185 inch), before the next hoist operation, remove the hoist cable from service.

(iii) Inspect the hoist cable for broken wires, kinks, bird caging, flattened areas, abrasion, and necking, referencing the examples shown and depicted in Figures 5 through 9 of BT 109SP-110. If there are any broken wires, kinks, bird caging, flattened areas, abrasion, or necking, before the next hoist operation, remove the hoist cable from service.

(2) Within 25 hours TIS, replace the rescue hoist handle attaching hardware as described in the Compliance Instructions, Part II, paragraphs 3 through 6, of BT 109SP-110.

(f) Special Flight Permits

A one-time special flight permit may be granted provided that the hoist is not used.

(g) Alternative Methods of Compliance (AMOCs)

(1) The Manager, Safety Management Section, Rotorcraft Standards Branch, FAA, may approve AMOCs for this AD. Send your proposal to: David Hatfield, Aviation Safety Engineer, Safety Management Section, Rotorcraft Standards Branch, FAA, 10101 Hillwood Pkwy., Fort Worth, TX 76177; telephone (817) 222-5110; email 9-ASWFTW-AMOC-Requests@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(h) Additional Information

The subject of this AD is addressed in European Aviation Safety Agency (EASA) AD No. 2017-0025, dated February 14, 2017. You may view the EASA AD on the internet at http://www.regulations.gov in Docket No. FAA-2018-0726.

(i) Subject

Joint Aircraft Service Component (JASC) Code: 2500, Cabin Equipment/Furnishings.

(j) Material Incorporated by Reference

(1) The Director of the Federal Register approved the incorporation by reference of the service information listed in this paragraph under 5 U.S.C. 552(a) and 1 CFR part 51.

(2) You must use this service information as applicable to do the actions required by this AD, unless the AD specifies otherwise.

(i) Leonardo Helicopters Bollettino Tecnico No. 109SP-110, dated February 13, 2017.

(ii) [Reserved]

(3) For service information identified in this AD, contact Leonardo S.p.A. Helicopters, Matteo Ragazzi, Head of Airworthiness, Viale G.Agusta 520, 21017 C.Costa di Samarate (Va) Italy; telephone +39-0331-711756; fax +39-0331-229046; or at https://www.leonardocompany.com/en/home.

(4) You may view this service information at FAA, Office of the Regional Counsel, Southwest Region, 10101 Hillwood Pkwy., Room 6N-321, Fort Worth, TX 76177. For information on the availability of this material at the FAA, call (817) 222-5110.

(5) You may view this service information that is incorporated by reference at the National Archives and Records Administration (NARA). For information on the availability of this material at NARA, call (202) 741-6030, or go to: http://www.archives.gov/federal-register/cfr/ibrlocations.html.

Issued in Fort Worth, Texas, on May 15, 2019.
Helene Gandy,
Acting Director, Compliance & Airworthiness Division, Aircraft Certification Service.

[FR Doc. 2019-10773 Filed 5-28-19; 8:45 am]

BILLING CODE 4910-13-P